PENSION BENEFIT GUARANTY CORPORATION

Submission of Information Collections for OMB Review; Comment Request; Locating and Paying Participants

AGENCY: Pension Benefit Guaranty Corporation.

ACTION: Notice of request for OMB approval of revision of collection of information.

SUMMARY: The Pension Benefit Guaranty Corporation (“PBGC”) is requesting that the Office of Management and Budget (“OMB”) approve a revision of a collection of information under the Paperwork Reduction Act. The purpose of the information collection is to enable the PBGC to pay benefits to participants and beneficiaries in plans covered by the PBGC insurance program. The PBGC created an electronic facility, My Pension Benefit Account (“MyPBA”), on its Web site at http://www.pbgc.gov, through which plan participants can conduct electronic transactions with the PBGC. The PBGC is adding additional transactions to MyPBA: applying for benefits, designating a beneficiary, providing payee and general information, and requesting an estimate. This notice informs the public of the PBGC's request to OMB for approval of this revision and solicits public comment on the collection of information.

DATES: Comments should be submitted by July 18, 2005.

ADDRESSES: Comments should be mailed to the Office of Information and Regulatory Affairs of the Office of Management and Budget, Attention: Desk Officer for Pension Benefit Guaranty Corporation, 725 17th Street, NW., Washington, DC 20503. Copies of the request for approval (including the collection of information) may be obtained without charge by writing to or visiting the PBGC's Communications and Public Affairs Department, suite 240, 1200 K Street, NW., Washington, DC 20005-4026, or calling 202-326-4040. (TTY and TDD users may call 800-877-8339 and request connection to 202-326-4040).

FOR FURTHER INFORMATION CONTACT: Catherine B. Klion, Attorney, Legislative & Regulatory Department, Pension Benefit Guaranty Corporation, 1200 K Street, NW., Washington, DC 20005-4026, 202-326-4024. (TTY and TDD users may call the Federal relay service toll-free at 1-800-877-8339 and ask to be connected to 202-326-4024.)

SUPPLEMENTARY INFORMATION: The PBGC is requesting that OMB extend its approval (with modifications) of a collection of information needed to pay participants and beneficiaries who may be entitled to pension benefits under a defined benefit plan that has terminated. The collection consists of information participants and beneficiaries are asked to provide in connection with an application for benefits. In addition, in some instances, as part of a search for participants and beneficiaries who may be entitled to benefits, the PBGC requests individuals to provide identifying information that the individual would provide as part of an initial contact with the PBGC.

As part of its ongoing implementation of the Government Paperwork Elimination Act, the PBGC created an application, MyPBA, on its Web site at http://www.pbgc.gov. The goal of MyPBA is to enable plan participants and beneficiaries to conduct electronic transactions with the PBGC. In August 2003, the PBGC made MyPBA available for two transactions—changing contact information and applying for electronic direct deposit—for participants in pay status in a limited number of plans. The PBGC subsequently made MyPBA available for participants in pay status in all trusteed plans. In August 2004, the PBGC added an additional transaction to MyPBA (electing to withhold income tax from periodic payments), made MyPBA available for deferred vested participants to change their contact information, and enhanced certain MyPBA screens to make them easier for participants to use. The PBGC intends to add additional transactions to MyPBA, including applying for benefits, designating a beneficiary, providing payee and general information, and requesting an estimate.

All requested information is needed to enable the PBGC to determine benefit entitlements and to make appropriate payments or to provide respondents with specific information about their pension plan and enable them to obtain a rough estimate of their benefit.

The existing collection of information was approved under control number 1212-0055 (expires April 30, 2006). The PBGC is requesting that OMB approve this revision of the collection of information through the current expiration date. An agency may not conduct or sponsor, and a person is not required to respond to, a collection of information unless it displays a currently valid OMB control number.

The PBGC estimates that 220,100 benefit application or information forms will be filed annually by individuals entitled to benefits from the PBGC and that the associated burden is 116,975 hours (an average of about one-half hour per response) and $77,365. The PBGC further estimates that 5,500 individuals annually will provide the PBGC with identifying information as part of an initial contact and that the associated burden is 1,500 hours (an average of about one-quarter hour per response) and $1,110. Thus, the total estimated annual burden associated with this collection of information is 118,475 hours and $78,475.

Issued in Washington, DC, this 13th day of June, 2005.
Richard W. Hartt,
Assistant Executive Director and Chief Technology Officer, Pension Benefit Guaranty Corporation.

[FR Doc. 05-11959 Filed 6-16-05; 8:45 am]

BILLING CODE 7708-01-P